FEDERAL COMMUNICATIONS COMMISSION

[Report No. 2556]

Petitions for Reconsideration and Clarification of Action in Rulemaking Proceedings

June 7, 2002.

Petitions for Reconsideration and Clarification have been filed in the Commission's rulemaking proceedings listed in this Public Notice and published pursuant to 47 CFR Section 1.429(e). The full text of this document is available for viewing and copying in Room CY-A257, 445 12th Street, SW, Washington, DC, or may be purchased from the Commission's copy contractor, Qualex International (202) 863-2893. Oppositions to these petitions must be filed by June 28, 2002. See Section 1.4(b)(1) of the Commission's rules (47 CFR 1.4(b)(1)). Replies to an opposition must be filed within 10 days after the time for filing oppositions has expired.

Subject: Telephone Number Portability (CC Docket No. 95-116), Implementation of the Local Competition Provisions of the Telecommunications Act of 1996 (CC Docket No. 96-98), Numbering Resource Optimization (CC Docket No. 99-200).

Number of Petitions Filed: 7.

Marlene H. Dortch,
Secretary.

[FR Doc. 02-14909 Filed 6-12-02; 8:45 am]

BILLING CODE 6712-01-M